DEPARTMENT OF ENERGY

Federal Energy Regulatory Commission

Notice of Filing

Take notice that the Commission has received the following Natural Gas Pipeline Rate and Refund Report filings:

Docket Numbers: RP17-1015-000.

Applicants: XTO Energy Inc., et al.

Description: Joint Petition of XTO Energy Inc., et al., for Amendment to, and Extension of Limited Waiver Request and Request for Expedited Action.

Filed Date: 1/23/18.

Accession Number: 20180123-5207.

Comments Due: 5 p.m. ET 1/29/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 26, 2018.
Nathaniel J. Davis, Sr.,
Deputy Secretary.

[FR Doc. 2018-01977 Filed 1-31-18; 8:45 am]

BILLING CODE 6717-01-P